FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than October 12, 2006.

A. Federal Reserve Bank of Richmond (A. Linwood Gill, III, Vice President) 701 East Byrd Street, Richmond, Virginia 23261-4528:

1. Robert Milam, Jr. to individually retain control of 17.61 percent of the voting shares of Big Coal River Bancorp, Inc., Whitesville, West Virginia; Robert Milam, Jr., Robert Milam, Pamela Milam, Melissa Milam, Jada Milam, Kevin Milam, Lloyd Jarrell, and other members of the Milam family, as a group acting in concert, to retain control of 20.34 percent of the voting shares of Big Coal River Bancorp, Inc., Whitesville, West Virginia, and thereby indirectly acquire Whitesville State Bank, Whitesville, West Virginia.

B. Federal Reserve Bank of St. Louis (Glenda Wilson, Community Affairs Officer) 411 Locust Street, St. Louis, Missouri 63166-2034:

1. Frederick D. Blume, Mayfield, Kentucky, to acquire additional voting shares of Jackson Financial Corporation, Mayfield, Kentucky, and thereby indirectly acquire FNB Bank, Inc., Mayfield, Kentucky.

Board of Governors of the Federal Reserve System, September 22, 2006.
Jennifer J. Johnson,
Secretary of the Board.

[FR Doc. E6-15791 Filed 9-26-06; 8:45 am]

BILLING CODE 6210-01-S